DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending August 3, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0148.

Date Filed: July 30, 2013.

Due Date for Answers, Conforming Applications, or Motion To Modify Scope: August 20, 2013.

Description: Application of Cargo Three, Inc. d/b/a PanAir requesting a foreign air carrier permit to operate charter air transportation of property between any point or points in the Republic of Panama and any point or points in the United States; and between any point or points in the United States and any point or points in a third country or countries, whether or not it constitutes part of a continuous operation that includes service to Panama. PanAir Cargo further requests exemption authority to the extent necessary to enable it to provide the services described above pending issuance of a foreign air carrier permit and such additional or other relief as the Department may deem necessary or appropriate.

Barbara J. Hairston,
Acting Program Manager, Docket Operations, Federal Register Liaison.

[FR Doc. 2013-20012 Filed 8-15-13; 8:45 am]

BILLING CODE 4910-9X-P